ENVIRONMENTAL PROTECTION AGENCY

40 CFR Part 300

[FRL-7500-7]

National Oil and Hazardous Substance, Pollution Contingency Plan; National Priorities List

AGENCY: Environmental Protection Agency.

ACTION: Notice of Intent to Delete the Rose Park Sludge Pit Superfund Site from the National Priorities List.

SUMMARY: The Environmental Protection Agency (EPA) Region 8 is issuing a Notice of Intent to Delete the Rose Park Sludge Pit Superfund Site (Site) located in Salt Lake City, Utah, from the National Priorities List (NPL) and requests public comments on this Notice. The NPL, promulgated pursuant to section 105 of the Comprehensive Environmental Response, Compensation, and Liability Act (CERCLA) of 1980, as amended, is found at Appendix B of 40 CFR Part 300, the National Oil and Hazardous Substances Pollution Contingency Plan (NCP). The EPA and the State of Utah, through the Utah Department of Environmental Quality (UDEQ), have determined that all appropriate response actions under CERCLA, other than five-year reviews and operation & maintenance, have been completed at the Site. However, this deletion does not preclude future actions under Superfund if determined necessary by EPA.

In the “Rules and Regulations” section of today's Federal Register, EPA is publishing a Direct Final Notice of Deletion of the Rose Park Sludge Pit Superfund Site without prior notice of intent to delete because EPA views this as a non-controversial action. EPA has explained its reasons for this deletion in the preamble to the Direct Final Notice of Deletion. If EPA receives no significant adverse comment(s) on the Direct Final Notice of Deletion, EPA will not take further action on this Notice of Intent to Delete and deletion of the Site will proceed. If EPA receives significant adverse comment(s), EPA will withdraw the Direct Final Notice of Deletion and it will not take effect. EPA will, as appropriate, address all public comments in a subsequent final deletion notice based on this Notice of Intent to Delete. EPA will not institute a second comment period on this Notice of Intent to Delete. Any parties interested in commenting must do so within the time frame noted below. For additional information, see the Direct Final Notice of Deletion, located in the “Rules and Regulations” section of this Federal Register.

DATES: Comments concerning this Site must be received by June 23, 2003.

ADDRESSES: Written comments should be addressed to: Armando Saenz, Remedial Project Manager (RPM), Mail Code: 8EPR-SR, U.S. EPA Region 8, 999 18th Street, Suite 300, Denver, Colorado, 80202-2466.

FOR FURTHER INFORMATION CONTACT: Armando Saenz, 303-312-6559, Remedial Project Manager (RPM), Mail Code: 8EPR-SR, U.S. EPA Region 8, 999 18th Street, Suite 300, Denver, Colorado, 80202-2466.

SUPPLEMENTARY INFORMATION: For additional information, see the direct final Notice of Deletion published in the “Rules and Regulations” section of this Federal Register.

Information Repositories

Repositories at the following addresses have been established to provide detailed information concerning this decision and all documents forming the basis for the response actions taken at this Site as well as documentation of the completion of those actions: (1) U.S. EPA Region 8 Superfund Records Center, 999 18th Street, Fifth Floor, Denver, Colorado 80202-2466, Monday through Friday, 8 a.m.-4:30 p.m.; and, (2) Utah Department of Environmental Quality, Division of Environmental Response & Remediation, 168 North 1950 West, Salt Lake City, Utah 84116.

List of Subjects in 40 CFR Part 300

Environmental protection, Air pollution control, Chemicals, Hazardous waste, Hazardous substances, Intergovernmental relations, Penalties, Reporting and recordkeeping requirements, Superfund, Water pollution, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: May 2, 2003.
Robert E. Roberts,
Regional Administrator, Region 8.

[FR Doc. 03-12613 Filed 5-20-03; 8:45 am]

BILLING CODE 6560-50-P